INTERNATIONAL TRADE COMMISSION

[Investigation No. 731-TA-920 (Review) (Remand)]

Certain Welded Large Diameter Line Pipe From Mexico

AGENCY: United States International Trade Commission.

ACTION: Notice.

SUMMARY: The U.S. International Trade Commission (“Commission”) hereby gives notice of its remand proceeding with respect to its negative determination in the five-year review of the antidumping duty order on certain welded large diameter line pipe from Mexico. For further information concerning the conduct of this proceeding and rules of general application, consult the Commission's Rules of Practice and Procedure, part 201, subparts A through E (19 CFR part 201), and part 207, subpart A (19 CFR part 207).

DATES: Effective Date: February 18, 2011.

FOR FURTHER INFORMATION CONTACT: Karl von Schriltz (202-205-3096), Office of General Counsel, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record of Investigation No. 731-TA-920 (Review) may be viewed on the Commission's electronic docket (EDIS) at http://edis.usitc.gov.

SUPPLEMENTARY INFORMATION: Background.—In October 2007, the Commission determined that revocation of the antidumping duty order covering certain welded large diameter line pipe from Mexico would not be likely to lead to continuation or recurrence of material injury to an industry in the United States within a reasonably foreseeable time. On April 21, 2008, six months after completion of the Commission's review, the Mexican producer Tuberias Procarsa, S.A. de C.V. (“Procarsa”) attempted to file with the Commission a revised foreign producers' questionnaire response which sought to revise certain aspects of its originally reported capacity, production, and shipment data. On April 24, 2008, the Commission rejected the submission on the grounds that it was untimely filed.

On November 21, 2007, the domestic producer United States Steel Corporation (“U.S. Steel”) filed a request for review of the Commission's determination by a binational panel under Article 1904 of the North American Free Trade Agreement. The parties completed briefing in the proceeding in 2008 and 2009. The Panel held a hearing in the proceeding on July 22, 2010.

On January 18, 2011, the Panel issued an opinion in the matter. In its opinion, the Panel affirmed the Commission's reliance on the existence of differing conditions of competition for Mexico and Japan when deciding not to exercise its discretion to cumulate the subject imports from those countries. The Panel also held that U.S. Steel was barred from raising in this proceeding “arguments regarding the asserted discrepancy between the questionnaire responses and the staff's finding that the Mexican producers reported theoretical capacity,” finding that U.S. Steel failed to exhaust its administrative remedies before the Commission. Panel Opinion at 25.

Nonetheless, the Panel remanded the Commission's determination so that the Commission could take into account Procarsa's revised foreign producers' questionnaire response and re-consider its cumulation and likely injury analysis for Mexico in light of the revised response. Specifically, the Panel indicated that the Commission should consider the revised data in light of its potential impact on the Commission's analysis of the Mexican industry's home market orientation, its capacity trends, and the presence of Mexican imports in the U.S. market. The Panel noted that the revised data did not affect the Commission's finding concerning Procarsa's product range during the period.

Participation in the proceeding.—Only those persons who were interested parties that participated in the review (i.e., persons listed on the Commission Secretary's service list) and also parties to the NAFTA panel proceeding may participate in the remand proceeding. Such persons need not make any additional filings with the Commission to participate in the remand proceeding, unless they are adding new individuals to the list of persons entitled to receive business proprietary information under administrative protective order. Business proprietary information (“BPI”) referred to during the remand proceeding will be governed, as appropriate, by the administrative protective order issued in the review.

Written Submissions.—The Commission is reopening the record in this proceeding for the sole purpose of accepting Procarsa's revised foreign producers' questionnaire response into the record. It will not otherwise accept the submission of new factual information for the record. The Commission will permit the parties to file comments concerning the new factual information submitted on the record during the remand proceeding. Those comments should be limited solely to the issue of whether and how the data contained in Procarsa's revised foreign producer's questionnaire will affect the Commission's cumulation and likely injury findings for Mexico, including its findings relating to the Mexican industry's home market orientation, its capacity trends, and the presence of Mexican imports in the U.S. market. The parties may not use this opportunity to comment on any other issue, including any “asserted discrepancy between the questionnaire responses and the staff's finding that the Mexican producers reported theoretical capacity.” Panel Opinion at 25.

The comments must be based solely on the information in the Commission's record. The Commission will reject submissions containing additional factual information or arguments pertaining to issues other than those on which the Panel has remanded this matter. The deadline for filing comments is March 8, 2011. Comments shall be limited to no more than twenty (20) double-spaced and single-sided pages of textual material.

All written submissions must conform with the provisions of section 201.8 of the Commission's rules; any submissions that contain BPI must also conform with the requirements of sections 201.6, 207.3, and 207.7 of the Commission's rules. The Commission's rules do not authorize filing of submissions with the Secretary by facsimile or electronic means, except to the extent permitted by section 201.8 of the Commission's rules, as amended, 67 FR 68036 (November 8, 2002).

In accordance with sections 201.16(c) and 207.3 of the Commission's rules, each document filed by a party to this proceeding must be served on all other such parties, and a certificate of service must be timely filed. The Secretary will not accept a document for filing without a certificate of service.

By order of the Commission.
Issued: February 15, 2011.
William R. Bishop,
Hearings and Meetings Coordinator.

[FR Doc. 2011-3766 Filed 2-17-11; 8:45 am]

BILLING CODE P